DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: October 19, 2023, 10 a.m.

PLACE: Room 2C, 888 First Street NE, Washington, DC 20426.

STATUS: Open to the public.

MATTERS TO BE CONSIDERED: Agenda. * Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1105th—Meeting
[Open Meeting; October 19, 2023, 10:00 a.m.]
Item No. | Docket No. | Company
Administrative
A-1 | AD24-1-000 | Agency Administrative Matters.
A-2 | AD24-2-000 | Customer Matters, Reliability, Security and Market Operations.
Electric
E-1 | RM22-12-000 | Reliability Standards to Address Inverter-Based Resources.
E-2 | RM23-9-000 | Revisions to the Filing Process and Data Collection for the Electric Quarterly Report.
E-3 | ER23-739-000; ER23-739-001; ER23-743-000; ER23-743-001 | ISO New England Inc.
E-4 | ER23-2463-000 | Idaho Power Company.
E-5 | ER22-2318-001; ER22-2318-002 | MATL LLP.
E-6 | ER22-2883-001 | Western Interconnect LLC.
E-7 | ER22-2989-000 | Wilderness Line Holdings, LLC.
E-8 | EC23-111-000 | Idaho Power Company; PacifiCorp.
E-9 | EC23-99-000 | Northern Indiana Public Service Company LLC, Dunns Bridge Solar Center, LLC, Indiana Crossroads Wind Farm LLC, Meadow Lake Solar Park LLC, and Rosewater Wind Farm LLC.
E-10 | RR23-3-000 | North American Electric Reliability Corporation.
E-11 | ER23-2603-000 | Twelvemile Solar Energy, LLC.
E-12 | ER14-225-009; EL23-95-000 | New Brunswick Energy Marketing Corporation.
E-13 | PL24-1-000 | Project-Area Wage Standards in the Labor Cost Component of Cost-of-Service Rates.
E-14 | TX23-5-000 | THSI bn, LLC.
Miscellaneous
M-1 | RM23-11-000 | Requests for Commission Records Available in the Public Reference Room.
Gas
G-1 | OR18-7-002; | Epsilon Trading, LLC, Chevron Products Company, and Valero Marketing and Supply Company v. Colonial Pipeline Company.
| OR18-12-002 | BP Products North America, Inc., Trafigura Trading LLC, and TCPU, Inc. v. Colonial Pipeline Company.
| OR18-17-002 | TransMontaigne Product Services LLC v. Colonial Pipeline Company.
| OR19-1-001 | Southwest Airlines Co. and United Aviation Fuels Corporation v. Colonial Pipeline Company.
| OR19-4-001 | Phillips 66 Company v. Colonial Pipeline Company.
| OR19-16-001 | American Airlines, Inc. v. Colonial Pipeline Company.
| OR19-20-000 | Metroplex Energy, Inc. v. Colonial Pipeline Company.
| OR19-27-000 | Gunvor USA LLC v. Colonial Pipeline Company.
| OR19-36-000 | Pilot Travel Centers, LLC v. Colonial Pipeline Company.
| OR20-7-000 | Sheetz, Inc. v. Colonial Pipeline Company.
| OR20-9-000; (consolidated) | Apex Oil Company, Inc. and FutureFuel Chemical Company v. Colonial Pipeline Company.
G-2 | OR18-7-003 | Epsilon Trading, LLC, Chevron Products Company, and Valero Marketing and Supply Company v. Colonial Pipeline Company.
| OR18-12-003 | BP Products North America, Inc., Trafigura Trading LLC, and TCPU, Inc. v. Colonial Pipeline Company.
| OR18-17-003 | TransMontaigne Product Services LLC v. Colonial Pipeline Company.
| OR19-1-002 | Southwest Airlines Co. and United Aviation Fuels Corporation v. Colonial Pipeline Company.
| OR19-4-002 | Phillips 66 Company v. Colonial Pipeline Company.
| OR19-16-002 | American Airlines, Inc. v. Colonial Pipeline Company.
| OR19-20-001 | Metroplex Energy, Inc. v. Colonial Pipeline Company.
| OR19-27-001 | Gunvor USA LLC v. Colonial Pipeline Company.
| OR19-36-001 | Pilot Travel Centers, LLC v. Colonial Pipeline Company.
| OR20-7-001 | Sheetz, Inc. v. Colonial Pipeline Company.
| OR20-9-001; (consolidated) | Apex Oil Company, Inc. and FutureFuel Chemical Company v. Colonial Pipeline Company.
Hydro
H-1 | P-15300-000 | BOST1 Hydroelectric, LLC.
H-2 | P-2318-055 | Erie Boulevard Hydropower, L.P.
| P-12252-038 | Hudson River-Black River Regulating District.
Certificates
C-1 | CP22-2-000 | Gas Transmission Northwest, LLC.
C-2 | CP22-466-000 | WBI Energy Transmission, Inc.
C-3 | CP17-66-001 | Venture Global Plaquemines LNG, LLC.
| CP17-67-001 | Venture Global Gator Express, LLC.
C-4 | CP22-486-000 | Texas Eastern Transmission, LP.
C-5 | CP22-468-000 | Trailblazer Pipeline Company LLC and Rockies Express Pipeline LLC.
C-6 | CP21-455-000 | Equitrans, L.P.
C-7 | RM22-8-000 | Updating Regulations for Engineering and Design Materials for Liquefied Natural Gas Facilities Related to Potential Impacts Caused by Natural Hazards.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: October 12, 2023.
Kimberly D. Bose,
Secretary.

[FR Doc. 2023-22983 Filed 10-13-23; 4:15 pm]

BILLING CODE 6717-01-P